DEPARTMENT OF ENERGY

Federal Energy Regulatory Commission

Sunshine Act Meetings

The following notice of meeting is published pursuant to section 3(a) of the government in the Sunshine Act (Pub. L. 94-409), 5 U.S.C. 552b:

AGENCY HOLDING MEETING: Federal Energy Regulatory Commission.

TIME AND DATE: November 20, 2025, 10:00 a.m.

PLACE: Room 2C. 888 First Street NE, Washington, DC 20426.

STATUS: Open to the public.

MATTERS TO BE CONSIDERED: Agenda

* Note—Items listed on the agenda may be deleted without further notice.

CONTACT PERSON FOR MORE INFORMATION: Debbie-Anne A. Reese, Secretary. Telephone (202) 502-8400.

For a recorded message listing items Stricken from or added to the meeting, call (202) 502-8627.

This is a list of matters to be considered by the Commission. It does not include a listing of all documents relevant to the items on the agenda. All public documents, however, may be viewed online at the Commission's website at https://elibrary.ferc.gov/eLibrary/search using the eLibrary link.

1130th—Meeting
[Open; November 20, 2025, 10:00 a.m.]
Item No. | Docket No. | Company
Administrative
A-1 | AD26-1-000 | Agency Administrative Matters
A-2 | AD26-2-000 | Customer Matters, Reliability, Security and Market Operations
A-3 | AD06-3-000 | Market Update
A-4 | AD07-13-019 | FY2025 Report on Enforcement
Electric
E-1 | ER25-2258-001 | System Energy Resources, Inc.
E-2 | ER22-24-002 | System Energy Resources, Inc.
E-3 | ER24-3032-000 | Pacific Gas and Electric Company
E-4 | ER10-1391-003 | San Diego Gas & Electric Company
E-5 | ER24-2776-000 ER24-2776-001 | Southern California Edison Company
E-6 | EL25-111-000 | EDF power solutions Development, Inc.
Miscellaneous
M-1 | RM22-20-000 | Duty of Candor
M-2 | PL20-7-000 | Waiver of Tariff Requirements
Gas
G-1 | RM25-2-000 | Supplemental Review of the Oil Pipeline Index Level
G-2 | RM93-11-003 | Revisions to Oil Pipeline Regulations Pursuant to the Energy Policy Act of 1992
| RM20-14-003 RM20-14-004 | Five-Year Review of the Oil Pipeline Index
G-3 | RM18-10-000 | Airlines for America and National Propane Gas Association
G-4 | RM20-7-000 | Safe Harbor Policy for Data Providers to Price Index Developers
Hydro
H-1 | RM26-3-000 | Authorizations for Certain Post-Licensing Activities at Hydroelectric Projects
Certificates
C-1 | RM26-2-000 | Authorizations for Certain Activities at Liquefied Natural Gas Plants
C-2 | CP25-89-000 | Northwest Pipeline LLC
| CP25-90-000 | Portland General Electric Company, B-R Pipeline, LLC and KB Pipeline Company
C-3 | CP25-207-000 | Distrigas of Massachusetts LLC
C-4 | CP25-29-000 | Eastern Gas Transmission and Storage, Inc.

A free webcast of this event is available through the Commission's website. Anyone with internet access who desires to view this event can do so by navigating to www.ferc.gov' s Calendar of Events and locating this event in the Calendar. The Federal Energy Regulatory Commission provides technical support for the free webcasts. Please call (202) 502-8680 or email customer@ferc.gov if you have any questions.

Immediately following the conclusion of the Commission Meeting, a press briefing will be held in the Commission Meeting Room. Members of the public may view this briefing in the designated overflow room. This statement is intended to notify the public that the press briefings that follow Commission meetings may now be viewed remotely at Commission headquarters but will not be telecast.

Issued: November 13, 2025.
Carlos D. Clay,
Deputy Secretary.

[FR Doc. 2025-20191 Filed 11-14-25; 4:15 pm]

BILLING CODE 6717-01-P